INTER-AMERICAN FOUNDATION

Sunshine Act Meetings

TIME AND DATE: June 6, 2023, ET, 10:00 a.m.-11:30 a.m.

PLACE: Via Zoom.

STATUS: Meeting of the Board of Directors, open to the public.

MATTERS TO BE CONSIDERED:

Call to Order

Overview of Meeting Rules by General Counsel

Approval of Minutes from January 23, 2023 meeting

Introductory Remarks by President & CEO

Management Team updates on Infrastructure, Country Programming, Learning Initiatives and External Engagements

Adjournment

CONTACT PERSON FOR MORE INFORMATION: Nicole Stinson, Associate General Counsel, (202) 683-7117.

For Dial-in Information Contact: Nicole Stinson, Associate General Counsel, (202) 683-7117.

The Inter-American Foundation is holding this meeting under the Government in the Sunshine Act, 5 U.S.C. 552(b).

Nicole Stinson,
Associate General Counsel.

[FR Doc. 2023-10852 Filed 5-17-23; 4:15 pm]

BILLING CODE 7025-01-P